DEPARTMENT OF HOMELAND SECURITY

[Docket No. FEMA-2022-0021]

Privacy Act of 1974; System of Records

AGENCY: Federal Emergency Management Agency, U.S. Department of Homeland Security.

ACTION: Notice of a new system of records.

SUMMARY: In accordance with the Privacy Act of 1974, the U.S. Department of Homeland Security (DHS) proposes to establish a new DHS system of records titled, “DHS/Federal Emergency Management Agency (FEMA)-017 Individuals and Households Program Equity Analysis Records System of Records.” This system of records allows DHS/FEMA to collect from and maintain records on applicants for its disaster assistance programs, which provide financial and other tangible assistance to survivors of presidentially declared disasters or emergencies, to assess and ensure that access to and participation in the Individuals and Households Program (IHP) is accomplished in an equitable and impartial manner.

DATES: Submit comments on or before September 2, 2022. This new system will be effective upon publication. Routine uses will be effective September 2, 2022.

ADDRESSES: You may submit comments, identified by docket number FEMA-2022-0021, by one of the following methods:

• Federal e-Rulemaking Portal: http://www.regulations.gov. Follow the instructions for submitting comments.

• Fax: 202-343-4010.

• Mail: Lynn Parker Dupree, Chief Privacy Officer, Privacy Office, U.S. Department of Homeland Security, Washington, DC 20528-0655.

Instructions: All submissions received must include the agency name and docket number FEMA-2022-0021. All comments received will be posted without change to http://www.regulations.gov including any personal information provided.

Docket: For access to the docket to read background documents or comments received, go to http://www.regulations.gov.

FOR FURTHER INFORMATION CONTACT: For general questions, please contact: Tammi Hines, (202) 212-5100, FEMA-Privacy@fema.dhs.gov, Senior Director for Information Management, Federal Emergency Management Agency, Washington, DC 20472-0001. For privacy questions, please contact: Lynn Parker Dupree, (202) 343-1717, Privacy@hq.dhs.gov, Chief Privacy Officer, Privacy Office, U.S. Department of Homeland Security, Washington, DC 20528-0655.

SUPPLEMENTARY INFORMATION:

I. Background

Pursuant to section 408 of the Stafford Act (42 U.S.C. 5174), FEMA provides assistance to individuals and households following a presidentially declared disaster or emergency. Section 308(a) of the Stafford Act (and its implementing regulation at 44 CFR 206.11) requires that FEMA disaster assistance including “the distribution of supplies, the processing of applications, and other relief and assistance activities” by FEMA and recipients of FEMA financial assistance “be accomplished in an equitable and impartial manner, without discrimination on the grounds of race, color, religion, nationality, sex, age, disability, English proficiency, or economic status.”

This system of records notice allows FEMA to collect demographic information during the registration process and combine it with assistance records and customer satisfaction survey response records to measure the effectiveness and outcomes of benefits and services FEMA provides through the Individuals and Households Program. The purpose of collecting this information is to allow FEMA to assess its compliance with civil rights, nondiscrimination, and equity requirements and obligations as outlined in the Stafford Act and other federal civil rights laws. For example, title VI of the Civil Rights Act of 1964 prohibits discrimination on the basis of race, color, or national origin in any program or activity that receives federal funds or other federal financial assistance, and section 504 of the Rehabilitation Act of 1973 requires that individuals with disabilities shall not be excluded from, denied the benefits of, or be subjected to discrimination under any program or activity that receives federal financial assistance or is conducted by a federal agency.

FEMA will conduct statistical analysis to examine the relationships between demographic data and program outcomes. This will help gain insight about any potential disparities in disaster assistance delivery. Analyses will be conducted throughout the lifecycle of the application process. In the initial stages of the application process, the data will inform FEMA about registration rates compared to community demographics, indicating if further outreach is needed. After inspection and decision, the data will be used to inform FEMA about eligibility and demographics. After the application process, the data will indicate differences in appeal rates and outcomes. And then much later, Disaster outcomes can be compared to one another.

Although FEMA may combine registration, appeal, and survey information with demographic responses for equity analysis, FEMA will not use these datasets or an individual's answers compiled from Individual Assistance demographic questions to make disaster assistance eligibility determinations for that individual. For example, FEMA will use statistical analysis to determine:

• Differences between demographic groups and Individuals and Households Program outcomes. This may include:

○ Program referral rates

○ Insured rates

○ Eligibility rates

○ Eligibility amounts

○ Assistance denial reasons

○ Appeals rates and/or types

• Appeal outcomes between different demographic groups. If certain demographic groups have a higher rate of appeals, FEMA will examine the stated reasons for appeals to determine why the differences may exist.

• Relationships between demographic data and registration damage self-assessment questions, or the accuracy of the self-assessment compared to FEMA inspector damage determinations. More inaccuracies associated with a particular demographic group may indicate that the self-assessment needs revision. For example, people who speak English as a second language may struggle more with understanding how to evaluate their damage, and perhaps the instructions need modification.

• If specific policies, procedures, guidelines, or employee/contractor behavior attribute to any disparities in program outcomes.

• The impact of proposed changes in policy, law, regulations, and procedure on small, vulnerable populations. Such analysis will aid with future planning and identify deficiencies in current FEMA processes that may need modification to be fairer and more equitable.

Example Use Cases:

Demographic data in Individuals and Households Program will be used in the following ways to help improve operational outcomes for vulnerable communities:

• Prioritize the placement of Disaster Recovery Centers and Disaster Survivor Assistance Teams in communities where vulnerable applicants are applying.

• Compare registration data to Census data in the community to identify areas where vulnerable people live but are not applying for assistance to improve outreach and messaging in those communities.

• Prioritize Transitional Sheltering Assistance (TSA), non-congregate sheltering, or direct housing programs in the most impacted areas and develop resource plans to provide the additional support needed for vulnerable populations.

• Understand whether cultural differences require different operational procedures to best meet the needs of vulnerable survivors.

DHS/FEMA may share information with appropriate federal, state, local, tribal, territorial, foreign, or international government agencies consistent with the routine uses set forth in this system of records notice. However, FEMA will only share aggregate, anonymized data unless approved by the DHS Privacy Office.

This newly established system will be included in DHS's inventory of record systems.

II. Privacy Act

The fair information practice principles found in the Privacy Act underpin statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the Judicial Redress Act, along with judicial review for denials of such requests. In addition, the Judicial Redress Act prohibits disclosures of covered records, except as otherwise permitted by the Privacy Act.

Below is the description of the DHS/FEMA-017 Individuals and Households Program Equity Analysis Records System of Records.

In accordance with 5 U.S.C. sec 552a(r), DHS has provided a report of this system of records to the Office of Management and Budget and to Congress.

SYSTEM NAME AND NUMBER:

U.S. Department of Homeland Security (DHS)/Federal Emergency Management Agency (FEMA)-017 Individuals and Households Program Equity Analysis Records.

SECURITY CLASSIFICATION:

Unclassified.

SYSTEM LOCATION:

Records are maintained in FEMA IT systems and at the FEMA Headquarters in Washington, DC, and the FEMA data centers.

SYSTEM MANAGER(S):

Division Director, Individual Assistance Division, Office of Response and Recovery, FEMA-Recovery-Technology-ActionOfficer@fema.dhs.gov, 500 C Street Southwest, Washington, DC 20472.

AUTHORITY FOR MAINTENANCE OF THE SYSTEM:

Section 408 of the Robert T. Stafford Disaster Relief and Emergency Assistance Act, as amended, 42 U.S.C. 5174; 44 CFR 206.110-206.191 (implementing section 408 of the Robert T. Stafford Disaster Relief and Emergency Assistance Act); Title VI of the Civil Rights Act of 1964, 42 U.S.C. 2000d et seq.; 44 CFR part 7 (implementing Title VI for FEMA-assisted program. See specifically 7.10, which allows data collection to ascertain compliance); section 308(a) of the Robert T. Stafford Disaster Relief and Emergency Assistance Act, 42 U.S.C. 5151; 44 CFR 206.11 (implementing section 308 of the Robert T. Stafford Disaster Relief and Emergency Assistance Act); section 504 of the Rehabilitation Act of 1973, 29 U.S.C. 794; Age Discrimination Act of 1975, 42 U.S.C. 6101 et seq.; 44 CFR 7.910-7.949 (implementing regulations for the Age Discrimination Act of 1975); Executive Order 13166—Improving Access to Services for Persons with Limited English Proficiency; Executive Order 13985—Advancing Racial Equity and Support for Underserved Communities Through the Federal Government; Executive Order 13995—Ensuring an Equitable Pandemic Response and Recovery; and Executive Order 13988—Preventing and Combating Discrimination on the Basis of Gender Identity or Sexual Orientation.

PURPOSE(S) OF THE SYSTEM:

The purpose of this system is to allow FEMA to collect and use demographic information to assess whether and to what extent its policies and programs for providing disaster assistance to individuals and households are carried out in an equitable and impartial manner, without discrimination on the grounds of race, color, religion, nationality, sex, age, or economic status.

CATEGORIES OF INDIVIDUALS COVERED BY THE SYSTEM:

Categories of individuals covered by the system include applicants for and recipients of FEMA assistance (i.e., disaster survivors).

CATEGORIES OF RECORDS IN THE SYSTEM:

Categories of records in the system include:

• FEMA equity analysis demographics records:

○ Race

○ Ethnicity

○ Tribal membership status

○ Gender/gender identity

○ Education level

○ Marital status

• FEMA disaster assistance registration and assistance records:

○ Disaster number

○ FEMA registration ID and occupant ID

○ Applicant/co-applicant information:

Full name

Social Security number or A-number

Date of birth

Phone numbers

Email addresses

Mailing addresses

Language(s) spoken

Number of dependents claimed

○ Damaged dwelling:

Addresses of the damaged dwelling and the applicant's current location (if other than the damaged dwelling)

County

Geospatial location of dwelling

Phone numbers

Information related to residence (accessibility, type, own/rent, damage sustained)

○ Disaster-related expenses

○ Emergency needs (e.g., food, clothing, shelter)

○ Disability-related needs and accommodations (e.g., sign language interpreter, assistive listening device, braille, wheelchair access, mobility, mental, hearing, vision, or other needs and accommodations)

○ Occupant and household information (for all occupants at the time of disaster):

Name (first name, middle initial, last name)

Age

Relationship to applicant

Dependent? (Yes/No)

Sex

Pre- and post-disaster income information of occupants 18 years of age or older

Tribal membership status

○ Business damage:

Self-employment is primary income? (Yes/No)

Business or rental property affected? (Yes/No)

○ Authorization for electronic funds transfer of benefits:

Prefers electronic funds transfer (Yes/No)

○ Comments and correspondence from the applicant

○ Public records information for identity verification

○ Disaster loan status (i.e., rejected, approved, declined, verified, cancelled)

○ Information related to determining eligibility for assistance including date of the disaster, application status, insurance information, types and amount of damage to the dwelling, types of supporting documentation (e.g., death certificates, invoices, or receipts, and documentation to supporting accommodations or access and functional need requests and repairs), and results of the home inspection (including inspector's notes and determination) and types of documentation supporting identity, occupancy, or ownership

○ Correspondence and documentation related to determining eligibility and appropriate housing unit size, type, and location for temporary housing assistance including general correspondence; complaints; requests for disbursement of payments; inquiries from tenants and landlords; information related to household access and functional needs; general administrative and fiscal information; payment schedules and forms; termination notices; information shared with the temporary housing program staff from other agencies; leases; contracts; specifications for repair of disaster damaged residences; reasons for revocation or denial of aid; sales information related to occupant purchase of housing units; and the status or disposition of housing applications

○ Recoupment, appeals, and/or arbitration (oral hearings) of such determinations

○ Notice of Potential Debt Letter

○ Notations and reports of decisions for disaster or similar financial awards and assistance from other FEMA programs, federal and state agencies, insurance companies, employers, banks, financial, power/utility companies, health care providers, safety/rescue services, and public or private entities as they relate to determinations of applicants' eligibility for Individuals and Households Program disaster assistance

○ Inspection Reports:

Inspection reports contain applicants' personally identifiable information (as outlined above) and results of assessments of damaged real property; personal property; and goods, which may include descriptions and photographic images of an applicant's home and personal items; video and/or audio of the inspection conducted on the home; and notations of cleaning, sanitizing, and debris removal by contractors and partnering agencies. Inspection reports may also include Inspector ID

○ Assistance from Other Sources:

Other files independently kept by the state, territory, tribe, local government, voluntary agency, or other sources of assistance that contain records of persons who request disaster aid including administrative files and reports required by FEMA for Other Needs Assistance under the Individuals and Households Program. The states, territories, tribes, local governments, voluntary agencies, and other sources of assistance keep the same type of information about individuals as described under registration, inspection, and temporary housing assistance records

○ Records of assistance from the FEMA National Flood Insurance Program (name, address, disaster assistance coverage required code, policy number, policy number, policy effective date, policy coverage building, policy coverage contents, new policy date, and expiration date)

○ Customer service survey responses

Demographic information (race, ethnicity, religion, gender, sex, nationality, age, disability, English proficiency, economic status, income level, marital status)

○ Responses to customer service and customer satisfaction survey questions

○ Investigation results that may contain the name and address of the applicants (initially collected to support recoupment, appeals, oral hearings, or other legal proceedings in order to recover disaster assistance)

RECORD SOURCE CATEGORIES:

FEMA may obtain records from disaster survivors (i.e., applicants) through disaster assistance registration (OMB 1660-0002/FEMA Forms 009-0-1 and 009-0-2), through the demographic survey collection (OMB 1660-NW133 Generic Clearance for Civil Rights and Equity), and from FEMA customer satisfaction/customer service survey responses (OMB 1660-0143/FEMA Forms 519-0-36, 519-0-37, 519-0-38, 519-0-39, 519-0-40, and 519-0-41; and OMB 1660-0145/FEMA Forms 519-0-44, 519-0-45, 519-0-46, 519-0-47, 519-0-48, 519-0-49, 519-0-50, and 519-0-51).

ROUTINE USES OF RECORDS MAINTAINED IN THE SYSTEM INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agencies conducting litigation or proceedings before any court, adjudicative, or administrative body, when it is relevant and necessary to the litigation and one of the following is a party to the litigation or has an interest in such litigation:

1. DHS or any component thereof

2. Any employee or former employee of DHS in his/her official capacity

3. Any employee or former employee of DHS in his/her individual capacity, only when DOJ or DHS has agreed to represent the employee

4. The United States or any agency thereof

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

POLICIES AND PRACTICES FOR STORAGE OF RECORDS:

DHS/FEMA stores records in this system electronically or on paper in secure facilities in a locked drawer behind a locked door. The records may be stored on magnetic disc, tape, and digital media.

POLICIES AND PRACTICES FOR RETRIEVAL OF RECORDS:

DHS/FEMA may retrieve records by any of the demographic characteristics, FEMA registration ID, name, disaster number, and geographic information (county, city, zip code, Census geography).

POLICIES AND PRACTICES FOR RETENTION AND DISPOSAL OF RECORDS:

Records pertaining to disaster assistance will be placed in inactive storage two years after FEMA receives the application and will be destroyed when they are six years and three months old, in accordance with NARA Authority N1-311-86-1, item 4C10a.

ADMINISTRATIVE, TECHNICAL, AND PHYSICAL SAFEGUARDS:

DHS/FEMA safeguards records in this system according to applicable rules and policies, including all applicable DHS automated systems security and access policies. DHS/FEMA has imposed strict controls to minimize the risk of compromising the information that is being stored. Access to the computer systems containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and the FEMA Freedom of Information Act (FOIA) Officer, whose contact information can be found at http://www.dhs.gov/foia under “Contact Information.” If an individual believes more than one component maintains Privacy Act records concerning him or her, the individual may submit the request to the Chief Privacy Officer and Chief Freedom of Information Act Officer, U.S. Department of Homeland Security, Washington, DC 20528-0655 or electronically at https://www.dhs.gov/dhs-foia-privacy-act-request-submission-form. Even if neither the Privacy Act nor the Judicial Redress Act provide a right of access, certain records about you may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. In addition, the individual should:

• Explain why he or she believes the Department would have the information being requested

• Identify which component(s) of the Department he or she believes may have the information

• Specify when the individual believes the records would have been created; and

• Provide any other information that will help the FOIA staff determine which DHS component agency may have responsive records;

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

For records covered by the Privacy Act or covered JRA records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record. For records covered by the Privacy Act or covered Judicial Redress Act records, see “Records Access Procedures” above.

NOTIFICATION PROCEDURES:

See “Record Access Procedures” above.

EXEMPTIONS PROMULGATED FOR THE SYSTEM:

None.

HISTORY:

None.

* * * * *

Lynn P. Dupree,
Chief Privacy Officer, U.S. Department of Homeland Security.

[FR Doc. 2022-16587 Filed 8-2-22; 8:45 am]

BILLING CODE 4410-10-P